FEDERAL COMMUNICATIONS COMMISSION

Notice of Open Meeting and Agenda of Commission Meeting Deletion of Consent Agenda Items From August 8, 2014 Open Meeting

August 7, 2014.

The following items have been deleted from the list of consent agenda items scheduled for consideration at the Friday, August 8, 2014, Open Meeting and previously listed in the Commission's Notice of August 1, 2014. Items 1, 3, 4 and 5 from the consent agenda have been adopted by the Commission.

The summaries listed in this notice are intended for the use of the public attending open Commission meetings. Information not summarized may also be considered at such meetings. Consequently these summaries should not be interpreted to limit the Commission's authority to consider any relevant information.

Item No. | Bureau | Subject
1 | MEDIA | TITLE: New Visalia Broadcasting, Inc., Former licensee of Station DKSLK(FM), Visalia, California
|  | SUMMARY: The Commission will consider a Memorandum Opinion and Order concerning an Application for Review filed by New Visalia Broadcasting seeking review of a Media Bureau decision.
2 | MEDIA | TITLE: Nelson Multimedia, Inc. for a Major Change to the Licensed Facilities of WSPY(AM), Geneva, Illinois
|  | SUMMARY: The Commission will consider a Memorandum Opinion and Order concerning an Application for Review filed by Nelson Multimedia seeking review of a decision by the Media Bureau dismissing its community of license change application.
3 | MEDIA | TITLE: Sunburst Media-Louisiana, LLC, Application for a Construction Permit for a Minor Change to a Licensed Facility, Station KXMG(FM), Jean Lafitte, Louisiana
|  | SUMMARY: The Commission will consider a Memorandum Opinion and Order concerning an Application for Review filed by William Clay seeking review of a Media Bureau decision.
4 | MEDIA | TITLE: WDKA Acquisition Corporation, Licensee of Station WDKA(TV), Paducah, Kentucky
|  | SUMMARY: The Commission will consider a Memorandum Opinion and Order concerning an Application for Review filed by WDKA Acquisition Corporation seeking review of a Forfeiture Order issued by the Media Bureau's Video Division.
5 | MEDIA | TITLE: Colonial Radio Group, Inc., Applications for Minor Modification of Construction Permits, Application for License to Cover FM Translator Station W230BO, Olean, New York
|  | SUMMARY: The Commission will consider a Memorandum Opinion and Order concerning an Application for Review filed by Backyard Broadcasting Olean Licensee, LLC seeking review of a Media Bureau decision.

Federal Communications Commission.
Marlene H. Dortch,
Secretary.

[FR Doc. 2014-19136 Filed 8-12-14; 8:45 am]

BILLING CODE 6712-01-P